ENVIRONMENTAL PROTECTION AGENCY

[FRL-6606-7]

North Penn Area 1 Superfund Site; Notice of Proposed Administrative Cost Recovery Settlement Pursuant to the Comprehensive Environmental Response, Compensation, and Liability Act of 1980, as Amended

AGENCY: Environmental Protection Agency.

ACTION: Notice, request for public comment.

SUMMARY: In accordance with Section 122(i) of the Comprehensive Environmental Response, Compensation, and Liability Act, as amended (“CERCLA”), notice is hereby given of a proposed administrative cost recovery settlement under Section 122(h)(1) of CERCLA concerning the North Penn Area 1 Superfund Site, Montgomery County, Pennsylvania, which was signed by the EPA Acting Regional Administrator, Region III, and the Assistant Attorney General for the Department of Justice, Environment and Natural Resources Division. The proposed settlement is intended to resolve an EPA claim under Section 107(a) of CERCLA against the Estate of Harry Maurer. The settlement requires the settling party to pay $20,000 to the Hazardous Substance Superfund.

For thirty (30) days following the date of publication of this notice, the Agency will receive written comments relating to the settlement. The Agency and the United States Department of Justice will consider all comments received and may modify or withdraw their consent to the settlement if comments received disclose facts or considerations which indicate that the settlement is inappropriate, improper, or inadequate. The Agency's response to any comments received will be available for public inspection at the U.S. Environmental Protection Agency, Region III, 1650 Arch Street, Philadelphia, PA 19103. The agreement has been approved by the Attorney General, United States Department of Justice, or her designee.

DATES: Comments must be submitted on or before June 16, 2000.

ADDRESSES: The proposed settlement and additional background information relating to the settlement are available for public inspection at the U.S. Environmental Protection Agency, Region III, 1650 Arch Street, Philadelphia, PA 19103. A copy of the proposed settlement may be obtained from Suzanne Canning, Regional Docket Clerk (3RC00), U.S. Environmental Protection Agency, Region III, 1650 Arch Street, Philadelphia, PA 19103, (215) 814-2476. Comments should reference the North Penn Area 1 Superfund Site and EPA Docket No. III-99-008-DC and should be forwarded to Ms. Canning at the above address.

FOR FURTHER INFORMATION CONTACT: Thomas A. Cinti, Senior Assistant Regional Counsel, U.S. Environmental Protection Agency, 1650 Arch Street, Philadelphia, PA 19103; (215) 814-2634.

Dated: May 3, 2000.
Bradley M. Campbell,
Regional Administrator, U.S. Environmental Protection Agency, Region III.

[FR Doc. 00-12391 Filed 5-16-00; 8:45 am]

BILLING CODE 6560-50-P